FEDERAL HOUSING FINANCE BOARD

12 CFR Part 960

[No. 2000-05]

RIN 3069-AA93

Information Collection Approval; Technical Amendment to the Affordable Housing Program Rule

AGENCY: Federal Housing Finance Board.

ACTION: Final Rule.

SUMMARY: Under the Paperwork Reduction Act of 1995 (Act), the Office of Management and Budget (OMB) has approved a three-year extension of the information collection contained in the Federal Housing Finance Board (Finance Board) rule governing the Affordable Housing Program (AHP). The OMB control number approving the information collection now expires on January 31, 2003. In accordance with the requirements of the Act, the Finance Board is amending the AHP rule to reflect this new expiration date.

EFFECTIVE DATE: The final rule will become effective on February 4, 2000.

FOR FURTHER INFORMATION CONTACT: Janet M. Fronckowiak, Acting Deputy Director, Program Assistance Division, Office of Policy, Research and Analysis, by telephone at 202/408-2575 or by electronic mail at fronckowiakj@fhfb.gov, or Melissa L. Allen, Program Analyst, Program Assistance Division, Office of Policy, Research and Analysis, by telephone at 202/408-2524 or by electronic mail at allenm@fhfb.gov, or by regular mail at the Federal Housing Finance Board, 1777 F Street, N.W., Washington, D.C. 20006. A telecommunications device for deaf persons (TDD) is available at 202/408-2579.

SUPPLEMENTARY INFORMATION:

I. Background

In order to extend the expiration date of the OMB control number approving the information collection contained in its AHP regulation, the Finance Board published requests for public comments regarding the information collection in the Federal Register on June 30 and October 28, 1999. See 64 FR 35158 (June 30, 1999) and 64 FR 58063 (Oct. 28, 1999). The Finance Board also submitted an analysis of the information collection, entitled “Affordable Housing Program,” to the OMB for review and approval. The OMB has approved a three-year extension of the information collection under OMB control number 3069-0006. The OMB control number now expires on January 31, 2003.

Under the Act and the OMB's implementing regulation, 44 U.S.C. 3507 and 5 CFR 1320.5, an agency may not sponsor or conduct, and a person is not required to respond to, an information collection unless the regulation collecting the information displays a currently valid OMB control number. Accordingly, the Finance Board is amending the AHP rule to reflect the new expiration date of the OMB control number.

II. Notice and Public Participation

Because the effectiveness of the information collection contained in the AHP rule must be maintained, the Finance Board for good cause finds that the notice and public procedure requirements of the Administrative Procedures Act are impracticable, unnecessary, or contrary to the public interest. See 5 U.S.C. 553(b)(3)(B).

III. Effective Date

For the reasons stated in part II above, the Finance Board for good cause finds that the final rule should become effective on February 4, 2000. See 5 U.S.C. 553(d)(3).

IV. Regulatory Flexibility Act

The provisions of the Regulatory Flexibility Act do not apply since this technical amendment to the AHP rule does not require publication of a notice of proposed rulemaking. See 5 U.S.C. 601(2) and 603(a).

V. Paperwork Reduction Act

The rule does not contain any collections of information pursuant to the Paperwork Reduction Act of 1995. See 44 U.S.C. 3501 et seq. Consequently, the Finance Board has not submitted any information to the Office of Management and Budget for review.

List of Subjects in 12 CFR Part 960

Credit, Federal home loan banks, Housing, Reporting and recordkeeping requirements.

For the reasons stated in the preamble, the Finance Board hereby amends 12 CFR part 960 as follows:

PART 960—AFFORDABLE HOUSING PROGRAM

1. The authority citation for part 960 continues to read as follows:

Authority: 12 U.S.C. 1430(j).

§§ 960.1, 960.3, 960.4, 960.6—960.11, 960.13, 960.15 [Amended]

2. Add a parenthetical statement immediately after §§ 960.1, 960.3, 960.4, 960.6 through 960.11, 960.13, and 960.15 to read as follows:

(The Office of Management and Budget has approved the information collection contained in this section and assigned control number 3069-0006 with an expiration date of January 31, 2003.)

By the Board of Directors of the Federal Housing Finance Board.
Dated: January 27, 2000.
Bruce A. Morrison,
Chairman.

[FR Doc. 00-2543 Filed 2-3-00; 8:45 am]

BILLING CODE 6725-01-P